DEPARTMENT OF HEALTH AND HUMAN SERVICES

National Institutes of Health

National Institute of Environmental Health Sciences; Amended Notice of Meeting

Notice is hereby given of a change in the meeting of the National Advisory Environmental Health Sciences Council, February 19, 2014, 08:30 a.m. to February 20, 2014, 11:00 p.m., Nat. Inst. of Environmental Health Sciences, Building 101, Rodbell Auditorium, 111 T.W. Alexander Drive, Research Triangle Park, NC 27709, which was published in the Federal Register on January 15, 2014, 79 FR 2678.

This Federal Register Notice is amending the second day of this meeting. February 20, 2014 will now have an open session from 8:30 a.m. to 9:30 a.m. The closed session on February 20, 2014 will now run from 9:35 a.m. to 11:30 a.m. The meeting is partially Closed to the public.

Dated: February 11, 2014.
Carolyn Baum,
Program Analyst, Office of Federal Advisory Committee Policy.

[FR Doc. 2014-03405 Filed 2-14-14; 8:45 am]

BILLING CODE 4140-01-P